DEPARTMENT OF DEFENSE

Department of the Navy

Notice of Availability of Record of Decision for the Naval Surface Warfare Center Panama City Division Mission Activities

AGENCY: Department of the Navy, DoD.

ACTION: Notice.

SUMMARY: The Department of the Navy (Navy), after carefully weighing the operational and environmental consequences of the proposed action, announces its decision to improve the Naval Surface Warfare Center Panama City Division's (NSWC PCD's) capabilities to conduct new and increased research, development, test, and evaluation (RDT&E) operations for the Navy and its Department of Defense customers within three military warning areas W-151, W-155, and W-470 and St. Andrew Bay, collectively known as the NSWC PCD Study Area. The proposed action is required for the Navy to successfully meet current and future national and global defense challenges by developing a robust capability to research, develop, test, and evaluate systems within the NSWC PCD Study Area. In its decision, the Navy considered applicable laws, regulations and executive orders, including an analysis of the effects of its actions outside the U.S. or its territories under Executive Order (EO) 12114, Environmental Effects Abroad of Major Federal Actions.

The proposed action will be accomplished as set out in Alternative 2, described in the Final Environmental Impact Statement (FEIS) as the preferred alternative. Implementation of the preferred alternative could begin immediately.

SUPPLEMENTARY INFORMATION: The Record of Decision (ROD) has been distributed to all those individuals who requested a copy of the FEIS and agencies and organizations that received a copy of the FEIS. The complete text of the Navy's ROD is available for public viewing on the project Web site at: http://www.navsea.navy.mil/nswc/panamacity/environment/docs.aspx along with copies of the FEIS and supporting documents. Single copies of the ROD will be made available upon request by contacting EIS Team Lead, Mrs. Carmen Ferrer, Naval Surface Warfare Center Panama City Division, Code CX06, 110 Vernon Avenue, Panama City, FL 32407-7001, telephone number 850-234-4146.

Dated: January 19, 2010.
A.M. Vallandingham,
Lieutenant Commander, Judge Advocate General's Corps, U.S. Navy, Federal Register Liaison Officer.

[FR Doc. 2010-1380 Filed 1-22-10; 8:45 am]

BILLING CODE 3810-FF-P